ENVIRONMENTAL PROTECTION AGENCY

[EPA-HQ-OPP-2016-0122; FRL-9957-37-OEI]

Information Collection Request Submitted to OMB for Review and Approval; Comment Request; Notice of Arrival of Pesticides and Devices Under Section 17(c) of the Federal Insecticide, Fungicide, and Rodenticide Act

AGENCY: Environmental Protection Agency (EPA).

ACTION: Notice.

SUMMARY: The Environmental Protection Agency has submitted an information collection request (ICR), “Notice of Arrival of Pesticides and Devices under section 17(c) of the Federal Insecticide, Fungicide, and Rodenticide Act” (EPA ICR No. 0152.12, OMB Control No. 2070-0020) to the Office of Management and Budget (OMB) for review and approval in accordance with the Paperwork Reduction Act (44 U.S.C. 3501 et seq.). This is a proposed extension of the ICR, which is currently approved through December 31, 2016. Public comments were previously requested via the Federal Register (81 FR 22261) on April 15, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 26, 2017.

ADDRESSES: Submit your comments, referencing Docket ID Number EPA-HQ-OPP-2016-0122, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Ryne Yarger, Field and External Affairs Division (7506P), Office of Pesticide Programs, Environmental Protection Agency, 1200 Pennsylvania Ave. NW., Washington, DC 20460; telephone number: 703-605-1193; email address: yarger.ryne@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The U.S. Customs and Border Protection (Customs) regulations at 19 CFR 12.112 require that an importer desiring to import a pesticide or device into the United States shall, prior to the shipment's arrival in the United States, submit a Notice of Arrival (NOA) of Pesticides and Devices (EPA Form 3540-1 or its Customs-authorized electronic equivalent) to EPA. Once EPA receives the NOA, EPA will determine the disposition of the shipment upon its arrival in the United States. Upon completing its review, the EPA response is sent to the importer of record or licensed customs broker, who must present the NOA to Customs upon arrival of the shipment at the port of entry. This is necessary to ensure that EPA is notified of the arrival of pesticides and pesticidal devices as required under FIFRA section 17(c), and that EPA has the ability to examine such shipments to determine compliance with FIFRA. Customs compares entry documents for the shipment with the NOA and notifies the EPA regional office of any discrepancies. Alternatively, importers may submit NOA information electronically through Customs' Automated Commercial Environment (ACE). Most of the electronic filings are automatically processed, and an early indication is provided to the filer if the initial reporting requirements have been met and if the shipment can be released upon arrival at the port of entry. For those filings that do not meet the reporting requirements, automatic checks will be performed to notify the filer of errors. For filings that require non-automated checks, EPA staff can review and provide feedback notifications through ACE to the filer on what information is needed that has not been provided.

Form Numbers: EPA Form 3540-1.

Respondents/affected entities: Entities potentially affected by this ICR are pesticide importers, which includes many types of business entities ranging from Commercial and Institutional Building Construction (NAICS 236220) to Pesticide and Other Agricultural Chemical Manufacturing (NAICS 325300) and even Public Administration: Executive Offices (NAICS 921110). Other business and institutions that import pesticides include Agriculture, Forestry, Fishing and Hunting (Sector 11), Wholesale Trade, (Sector 42). The majority of responses come from businesses that fall under NAICS code 325300.

Respondent's obligation to respond: mandatory (7 U.S.C. 136o—Section 17 of the Federal Insecticide, Fungicide, and Rodenticide Act.)

Estimated number of respondents: 38,000 (total).

Frequency of response: On occasion.

Total estimated burden: 16,340 hours (per year). Burden is defined at 5 CFR 1320.03(b).

Total estimated cost: $1,006,034 (per year). There is no capital or operation & maintenance costs.

Changes in the Estimates: There is increase of 1,290 hours in the total estimated respondent burden compared with the ICR currently approved by OMB. This increase reflects EPA's updating of burden estimates for this collection based upon historical information on the number of NOAs received by EPA. Based upon revised estimates, the number of NOAs received has increased from 35,000 to 38,000. The average burden hours per response will remain unchanged from the previous ICR renewal of 0.43 hours per response. This change is an adjustment.

Spencer Clark,
Acting Director, Regulatory Support Division.

[FR Doc. 2016-31159 Filed 12-23-16; 8:45 am]

BILLING CODE 6560-50-P